DEPARTMENT OF AGRICULTURE

Submission for OMB Review; Comment Request

December 8, 2009.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Forest Industries, Residential Fuel Wood, and Post Data Collection Systems

OMB Control Number: 0596-0010

Summary of Collection: The Forest and Range Renewable Resources Planning Act of 1974 (Pub. L. 93-278) and the Forest and Rangeland Renewable Resources Research Act of 1978 (Pub. L. 95-307) amended by the Energy Security Act of 1980 (42 U.S.C. 8701) require the Forest Service (FS) to evaluate trends in the use of logs and wood chips, to forecast anticipated levels of logs and wood chips, and to analyze changes in the harvest of the resources. Forest product and other wood-using industries are important to state, regional, and national economies. In most southern states, the value of rounded timber products is ranked either first or second in relation to other major agricultural crops. The importance and value of the timber products industry is significant in other regions of the United States as well. The FS will collect information using questionnaires.

Need and Use of the Information: To monitor the types, species, volumes, sources, and prices of the timber products harvested throughout the Nation, FS will collect information using the “Pulpwood Received Questionnaire,” “Logs and Other Roundwood Received Questionnaire,” and the “Residential Fuel Wood and Post Questionnaire.” The data will be used to develop specific economic development plans for a new forest-related industry in a State and to assist existing industries in identifying raw material problems and opportunities. If the information were not collected, data would not be available for sub-state, state, regional, and national policy makers and program developers to make decisions related to the forestland on a scientific basis.

Description of Respondents: Business or other for-profit; Not-for-profit institutions.

Number of Respondents: 4,011.

Frequency of Responses: Reporting: On occasion; Annually.

Total Burden Hours: 2,019.

Forest Service

Title: Objection to New Land Management Plans, Plan Amendments, and Plan Revisions

OMB Control Number: 0596-0158

Summary of Collection: The process for submitting objections to new land management plans, plan amendments, and plan revisions is set forth in Title 36 CFR 219.13. An objector must provide their name, mailing address, telephone number, and identify the specific proposed plan, amendment, or revision that is the subject of the objection. This is the minimum information needed for a citizen or organization to explain the nature of and rational for objections to new land management plans, plan amendments, and plan revisions.

This information must accompany a concise statement explaining how the environmental disclosure documents, if any, and proposed plan, amendment, or revision are inconsistent with law, regulation, Executive Order, or policy and any recommendations for change. The Reviewing Officer then reviews the objection(s) and relevant information and responds to the objector(s) in writing.

Need and Use of the Information: The information collected (objections to new land management plans, plan amendments, and plan revisions) is analyzed and responded to by a Forest Service official. At times, this information is used to modify land and resource management planning decisions. Forest supervisors and regional forests that make decisions on land and resource management planning also use the information. Without this information, the agency's decision-making will suffer from a reduction in public input and agency relationships with the public will deteriorate.

Description of Respondents: Individuals or households; Business or other for-profit; Not-for-profit institutions; State, Local or Tribal Government.

Number of Respondents: 1,210.

Frequency of Responses: Reporting: Other (once).

Total Burden Hours: 12,100.

Charlene Parker,
Departmental Information Collection Clearance Officer.

[FR Doc. E9-29552 Filed 12-10-09; 8:45 am]

BILLING CODE 3410-11-P